DEPARTMENT OF EDUCATION

[CFDA Nos.: 84.381A and 84.381B]

Notice Announcing the Technical Assistance Workshop for Fiscal Year (FY) 2008 for the Teachers for a Competitive Tomorrow Programs for Baccalaureate Degrees in Science, Technology, Engineering, Mathematics, or Critical Foreign Languages, With Concurrent Teacher Certification (TCT-B) and the Teachers for a Competitive Tomorrow Programs for Master's Degrees in Science, Technology, Engineering, Mathematics, or Critical Foreign Language Education (TCT-M)

AGENCY: Office of Postsecondary Education, Higher Education Programs, Department of Education.

SUMMARY: The Department expects to hold two competitions for new grants under the Teachers for Competitive Tomorrow programs in FY 2008. This notice provides information about a one-day technical assistance workshop to assist institutions of higher education interested in applying for FY 2008 new awards under the TCT-B and TCT-M programs. Program and Department staff will present information to potential applicants about the purpose of the TCT programs, grant competition highlights, the peer review process, and the Grants.gov Web site, as well as suggestions for writing a quality grant proposal.

Although the Department has not yet announced an application deadline date in the Federal Register for the FY 2008 TCT-B and TCT-M competitions, the Department is holding this workshop to give potential applicants guidance for preparing applications for the competitions we expect to conduct in FY 2008. Specific requirements for the FY 2008 competitions will be published in separate notices inviting applications for the TCT-B and TCT-M programs. This notice announces the technical assistance workshop only.

FOR FURTHER INFORMATION CONTACT: Steve Sniegoski, Teachers for a Competitive Tomorrow programs (TCT), U.S. Department of Education, 1990 K Street, NW., Room 7092, Washington, DC 20006-8524. Telephone: (202) 502-7686.

If you use a telecommunications device for the deaf (TDD), call the Federal Relay Service, toll free, at 1-800-877-8339.

Individuals with disabilities can obtain this document in an alternative format (e.g., Braille, large print, audio tape, or computer diskette) by contacting the program contact person listed in this section.

SUPPLEMENTARY INFORMATION: The technical assistance workshop will be held at the following location: U.S. Department of Education, Barnard Auditorium, 400 Maryland Avenue SW., Washington, DC 20202.

The Technical Assistance Workshop session will be held on May 14, 2008 from 8 a.m. to 5 p.m. Registration is from 8 a.m. to 9 a.m. on the day of the session. There is no fee for this workshop. However, space is limited. Attendees must make their own travel and hotel reservations. We encourage attendance from both those who will be responsible for writing the grant proposal and those who will provide technical support for uploading the application materials onto the Grants.gov Apply site.

Assistance to Individuals With Disabilities Attending the Technical Assistance Workshop

The technical assistance workshop is accessible to individuals with disabilities. If you need an auxiliary aid or service to participate in the workshop (e.g., interpreting service, assistive listening device, or materials in an alternative format), notify the contact person listed under FOR FURTHER INFORMATION CONTACT at least two weeks before the scheduled workshop date. Although we will attempt to meet a request received after that date, we may not be able to make available the requested auxiliary aid or service because of insufficient time to arrange it.

Electronic Access to This Document: You can view this document, as well as all other documents of this Department published in the Federal Register, in text or Adobe Portable Document Format (PDF) on the Internet at the following site: http://www.ed.gov/news/fedregister.

To use PDF, you must have Adobe Acrobat Reader, which is available free at this site. If you have any questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 9801 et seq.

Dated: April 25, 2008.
Diane Auer Jones,
Assistant Secretary for Postsecondary Education.

[FR Doc. E8-9594 Filed 4-30-08; 8:45 am]

BILLING CODE 4000-01-P